DEPARTMENT OF COMMERCE

National Oceanic and Atmospheric Administration

RIN 0648-XA444

Marine Mammals; File No. 14245

AGENCY: National Marine Fisheries Service (NMFS), National Oceanic and Atmospheric Administration (NOAA), Commerce.

ACTION: Notice; issuance of permit amendment.

SUMMARY: Notice is hereby given that the NMFS National Marine Mammal Laboratory, Alaska Fisheries Science Center, 7600 Sand Point Way NE., Seattle, WA 98115-6349, (Dr. John Bengtson, Responsible Party), has been issued a minor amendment to Scientific Research Permit No. 14245-03.

ADDRESSES: The amendment and related documents are available for review upon written request or by appointment in the Permits and Conservation Division, Office of Protected Resources, NMFS, 1315 East-West Highway, Room 13705, Silver Spring, MD 20910; phone (301) 427-8401; fax (301) 713-0376.

FOR FURTHER INFORMATION CONTACT: Amy Hapeman or Carrie Hubard, (301) 427-8401.

SUPPLEMENTARY INFORMATION: The requested amendment has been granted under the authority of the Marine Mammal Protection Act of 1972, as amended (16 U.S.C. 1361 et seq.); the regulations governing the taking and importing of marine mammals (50 CFR part 216); the Endangered Species Act of 1973, as amended (ESA; 16 U.S.C. 1531 et seq.), and the regulations governing the taking, importing, and exporting of endangered and threatened species (50 CFR parts 222-226).

The original permit (No. 14245), issued on April 25, 2011 (76 FR 30309) authorized the holder to conduct research in the Pacific, Atlantic, and Arctic Oceans on 33 species of cetaceans, including vessel and aerial surveys for remote observation and monitoring, marking, biological sampling, and/or tagging, and captures for two species with subsequent sampling and tagging activities through May 1, 2016. The minor amendment (No. 14245-04) extends the duration of the permit through May 1, 2017, but does not change any other terms or conditions of the permit.

Dated: July 25, 2016.
Julia Harrison,
Chief, Permits and Conservation Division, Office of Protected Resources, National Marine Fisheries Service.

[FR Doc. 2016-17919 Filed 7-28-16; 8:45 am]

BILLING CODE 3510-22-P